DEPARTMENT OF ENERGY

Federal Energy Regulatory Commission

[Docket No. RP96-200-118]

CenterPoint Energy Gas Transmission Company; Notice of Compliance Filing

January 21, 2004.

Take notice that on January 14, 2004, CenterPoint Energy Gas Transmission Company (CEGT) tendered for filing as part of its FERC Gas Tariff, Sixth Revised Volume No. 1, the following tariff sheets:

First Revised Sheet No. 1

First Revised Sheet No. 46

First Revised Sheet No. 47

First Revised Sheet No. 70

First Revised Sheet No. 72

Original Sheet No. 72A

First Revised Sheet No. 421

Original Sheet No. 421A

First Revised Sheet No. 455

First Revised Sheet No. 469

Original Sheet No. 469A

First Revised Sheet No. 476

Original Sheet No. 476A

First Revised Sheet No. 590

First Revised Sheet No. 683

First Revised Sheet No. 728

First Revised Sheet No. 729

First Revised Sheet No. 730

Original Sheet No. 731

Original Sheet No. 732

Original Sheet No. 733

Original Sheet No. 734

Original Sheet No. 735

Original Sheet No. 736

Sheet Nos. 737—741

Original Sheet No. 788

Original Sheet No. 789

Sheet Nos. 790—798

CEGT states that the purpose of this filing is to comply with the Commission's Order Directing Filing of Tariff Provisions and Modifying Non-Conforming Agreements in Docket Nos. RP96-200-092, 097, 101-108, 110-111, CenterPoint Energy Gas Transmission Company, 104 FERC ¶ 61,281 (2003).

CEGT states that it intends for these tariff sheets to take effect on the first day of the month after the Commission issues an order approving this compliance filing. However, the proposed tariff sheets show an effective date of March 1, 2004.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-127 Filed 1-27-04; 8:45 am]

BILLING CODE 6717-01-P